DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before December 23, 2005.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-110964

Applicant: John MacFarlane, Fort Worth, Texas.

Applicant requests a new permit for research and recovery purposes to conduct presence/absence surveys for golden-cheeked warbler (Dendroica chrysoparia) and black-capped vireo (Vireo atricapillus) within Texas.

Permit No. TE-112023

Applicant: Escarpment Environmental, Austin, Texas.

Applicant requests a new permit for research and recovery purposes to conduct presence/absence surveys for golden-cheeked warbler (Dendroica chrysoparia), and black-capped vireo (Vireo atricapillus) within Texas. Additionally, applicant requests authorization to survey for and collect the following species within Texas: Batrisodes texanus (Coffin Cave mold beetle), Batrisodes venyivi (Helotes mold beetle), Cicurina baronia (Robber Baron Cave meshweaver), Cicurina madla (Madla's cave meshweaver), Cicurina venii (Braken Bat Cave meshweaver), Cicurina vespera (Government Canyon Bat Cave meshweaver), Neoleptoneta microps (Government Canyon Bat Cave spider), Neoleptoneta myopica (Tooth Cave spider), Rhadine exilis (ground beetle, no common name), Rhadine infernalis (ground beetle, no common name), Rhadine persephone (Tooth Cave ground beetle), Tartarocreagris texana (Tooth Cave pseudoscorpion), Texamaurops reddelli (Kretschmarr Cave mold beetle), Texella cokendolpheri (Cokendolpher cave harvestman), Texella reddelli (Bee Creek Cave harvestman), and Texella reyesi (Bone Cave harvestman).

Permit No. TE-113511

Applicant: Jill Clausen, Tucson, Arizona.

Applicant requests a new permit for research and recovery purposes to conduct presence/absence surveys for the following species within Arizona and California: San Joaquin kit fox (Vulpes macrotis mutica), lesser long-nosed bat (Leptonycteris curasoae yerbabuenae), cactus ferruginous pygmy-owl (Glaucidium brasilianum cactorum), southwestern willow flycatcher (Empidonax traillii extimus).

Permit No. TE-815409

Applicant: New Mexico Department of Game and Fish, Santa Fe, New Mexico.

Applicant requests an amendment to an existing permit to conduct presence/absence surveys and management projects for the following species: Roswell springsnail (Pyrgulopsis roswellensis), Koster's springsnail (Juturnia kosteri), Noel's amphipod (Gammarus desperatus) in New Mexico, and Pecos assiminea (Assiminea pecos) in New Mexico and Texas. In addition, presence/absence surveys and management projects will also be conducted for Gila chub (Gila intermedia) within New Mexico.

Permit No. TE-676811

Applicant: U.S. Fish & Wildlife Service, Region 2, Albuquerque, New Mexico.

Applicant requests an amendment to the Regional Director's permit to add Gila chub (Gila intermedia) within Arizona. The listed species will be effective November 21, 2005.

Permit No. TE-039467

Applicant: USGS-BRD Arizona Cooperative Fish & Wildlife Unit, Tucson, Arizona.

Applicant requests a renewal to an existing permit to conduct presence/absence surveys and management projects for Gila chub (Gila intermedia) within Arizona.

Permit No. TE-821577

Applicant: Arizona Game and Fish Department, Phoenix, Arizona.

Applicant requests an amendment to an existing permit to conduct presence/absence surveys and management projects for Gila chub (Gila intermedia) within Arizona.

Permit No. TE-114260

Applicant: Cynthia Carey, Boulder, Colorado.

Applicant requests a new permit for research and recovery purposes to conduct laboratory management projects for Leon Springs pupfish (Cyprinodon bovinus), Comanche Springs pupfish (Cyprinodon ekegans), and Desert pupfish (Cyprinodon macularis) within Colorado.

Permit No. TE-114262

Applicant: Stelle & Associates, Inc., Tulsa, Oklahoma.

Applicant requests a new permit for research and recovery purposes to conduct presence/absence surveys for American burying beetle (Nicrophorus americanus) within Oklahoma.

Authority: 16 U.S.C. 1531, et seq.

Dated: November 4, 2005.
Bryan Arroyo,
Acting Regional Director, Region 2, Albuquerque, New Mexico.

[FR Doc. 05-23160 Filed 11-22-05; 8:45 am]

BILLING CODE 4310-55-P